DEPARTMENT OF COMMERCE

National Oceanic and Atmospheric Administration

[RTID 0648-XC189]

South Atlantic Fishery Management Council; Public Hearings

AGENCY: National Marine Fisheries Service (NMFS), National Oceanic and Atmospheric Administration (NOAA), Commerce.

ACTION: Notice of public hearings.

SUMMARY: The South Atlantic Fishery Management Council (Council) will hold two public hearings via webinar pertaining to Amendment 51 and Amendment 52 to the Fishery Management Plan (FMP) for the Snapper Grouper Fishery of the South Atlantic Region. These amendments address catch levels, sector allocations, and changes to management measures for the South Atlantic stocks of snowy grouper and golden tilefish, and modifications to recreational management measures for South Atlantic blueline tilefish.

DATES: The public hearings will take place September 6 and 7, 2022, beginning at 6 p.m., EDT. For specific dates and times, see SUPPLEMENTARY INFORMATION.

ADDRESSES: The public hearings will be held via webinar. Information, including a link to webinar registration will be posted on the Council's website at: https://safmc.net/public-hearings-scoping-2/ as it becomes available.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: Public hearing documents, an online public comment form, and other materials will be posted to the Council's website at https://safmc.net/public-hearings-scoping-2/ by August 23, 2022. Comments will be accepted through 5 p.m. on September 9, 2022. During the hearings, Council staff will provide an overview of actions being considered in each amendment. Staff will answer clarifying questions on the presented information and the proposed actions. Following the presentation and questions, the public will have the opportunity to provide comments on the amendment.

Amendment 51 to the Snapper Grouper FMP

The Council must adjust catch levels for snowy grouper in response to the most recent stock assessment for the species in the region conducted through the Southeast Data, Assessment, and Review (SEDAR) stock assessment process, SEDAR 36 Update (2020). The assessment indicated the stock continues to be overfished and is undergoing overfishing. A rebuilding plan is already in place for snowy grouper; however, catch levels must be adjusted based on the new catch level recommendations from the Council's Scientific and Statistical Committee (SSC). The Council is considering modifications to the overfishing limit, acceptable biological catch, annual catch limit, sector allocations, and recreational management and accountability measures.

Amendment 52 to the Snapper Grouper FMP

The stock of golden tilefish in the South Atlantic was most recently assessed through SEDAR 66 (2020), which indicated the stock is not overfished nor undergoing overfishing but is near the overfishing threshold. The Council must adjust catch levels based on the new catch level recommendations from the Council's SSC. The Council is considering modifications to the overfishing limit, acceptable biological catch, annual catch limit, sector allocations, commercial management measures, and recreational accountability measures. The Council is also considering modifications to South Atlantic blueline tilefish recreational management and accountability measures.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: August 11, 2022.
Rey Israel Marquez,
Acting Deputy Director, Office of Sustainable Fisheries, National Marine Fisheries Service.

[FR Doc. 2022-17634 Filed 8-16-22; 8:45 am]

BILLING CODE 3510-22-P